DEPARTMENT OF TRANSPORTATION

Surface Transportation Board

[STB Finance Docket No. 34230]

Squaw Creek Southern Railroad, Inc.—Operation Exemption—Line of Norfolk Southern Railway Company

Squaw Creek Southern Railroad, Inc. (SCS),¹ a noncarrier, has filed a verified notice of exemption under 49 CFR 1150.31 to acquire nonexclusive trackage rights and to operate approximately 21.3 miles of railroad owned by Norfolk Southern Railway Company (NS), in Warrick County, IN, between milepost 0.6, at or near Yankeetown Dock, and milepost 21.9, at or near Lynnville Mine. SCS certifies that its projected revenues as a result of this transaction will not exceed those that would qualify it as a Class III rail carrier and that such revenues would not exceed $5 million.

¹ SCS states that it has entered into a trackage and interchange agreement with NS permitting SCS to operate the rail line. SCS will be able to interchange with NS at Boonville, IN.

The transaction was scheduled to be consummated no earlier than July 19, 2002. The earliest the transaction could have been consummated was July 18, 2002, the effective date of the exemption (7 days after the exemption was filed).

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34230, must be filed with the Surface Transportation Board, 1925 K Street, NW., Washington, DC 20423-0001. In addition, one copy of each pleading must be served on Andrew P. Goldstein, McCarthy, Sweeney & Harkaway, P.C., 2175 K Street, NW., Suite 600, NW., Washington, DC 20037.

Board decisions and notices are available on our website at www.stb.dot.gov.

Decided: August 1, 2002.
By the Board, David M. Konschnik, Director, Office of Proceedings.
Vernon A. Williams,
Secretary.

[FR Doc. 02-19942 Filed 8-8-02; 8:45 am]

BILLING CODE 4915-00-P